DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-051. Applicant: National Renewable Energy Laboratory, 1617 Cole Boulevard, Golden, CO 80401. Instrument: Electron Microscope, Model Tecnai G² 20 TWIN. Manufacturer: FEI Company, the Netherlands. Intended Use: The instrument is intended to be used to study the structure and physical chemistry of biomass samples. The goal of these investigations is to better understand the structural and chemical properties and relate them to the susceptibility of biomass to enzyme digestion, and to characterize a variety of nano-structured materials such as quantum dot protein conjugates and polymeric supports for syngas conversion. Application accepted by Commissioner of Customs: November 13, 2003.

Docket Number: 03-052. Applicant: National Institute of Standards and Technology, 100 Bureau Drive, Gaithersburg, MD 20899. Instrument: Dual Beam Scanning Electron and Focused Ion Beam Microscope System, Model Nova 600 NanoLab. Manufacturer: FEI Company, the Netherlands. Intended Use: The instrument is intended to be used to study solid state materials and devices researched, used and produced by the microelectronics industry and emerging nanotechnology. The research objectives are to accurately measure small-size structures and to develop research and calibration methods. Application accepted by Commissioner of Customs: November 20, 2003.

Gerald A. Zerdy,
Program Manager, Statutory Import Programs Staff.

[FR Doc. 03-30900 Filed 12-12-03; 8:45 am]

BILLING CODE 3510-DS-P